DEPARTMENT OF TRANSPORTATION

Federal Aviation Administration

14 CFR Part 39

[Docket No. FAA-2022-0890; Project Identifier MCAI-2022-00391-T; Amendment 39-22242; AD 2022-24-02]

RIN 2120-AA64

Airworthiness Directives; Airbus SAS Airplanes

AGENCY: Federal Aviation Administration (FAA), DOT.

ACTION: Final rule.

SUMMARY: The FAA is adopting a new airworthiness directive (AD) for certain Airbus SAS Model A300 F4-600R series airplanes. This AD was prompted by a determination that the forward cargo door compartment between certain frame forks is susceptible to widespread fatigue damage (WFD). This AD completes certain mandated programs to support the airplane reaching its limit of validity (LOV) of the engineering data that support the established structural maintenance program. This AD requires modifying the forward cargo compartment between certain frame forks, as specified in a European Union Aviation Safety Agency (EASA) AD, which is incorporated by reference. The FAA is issuing this AD to address the unsafe condition on these products.

DATES: This AD is effective January 9, 2023.

The Director of the Federal Register approved the incorporation by reference of a certain publication listed in this AD as of January 9, 2023.

ADDRESSES:

AD Docket: You may examine the AD docket at regulations.gov under Docket No. FAA-2022-0890; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2022-0890.

FOR FURTHER INFORMATION CONTACT: Dan Rodina, Aerospace Engineer, Large Aircraft Section, FAA, International Validation Branch, 2200 South 216th St., Des Moines, WA 98198; telephone 206-231-3225; email dan.rodina@faa.gov.

SUPPLEMENTARY INFORMATION:

Background

The FAA issued a notice of proposed rulemaking (NPRM) to amend 14 CFR part 39 by adding an AD that would apply to certain Airbus SAS Model A300 F4-600R series airplanes. The NPRM published in the Federal Register on July 25, 2022 (87 FR 44032). The NPRM was prompted by EASA AD 2022-0048, dated March 18, 2022 (EASA AD 2022-0048) issued by EASA, which is the Technical Agent for the Member States of the European (referred to after this as the MCAI). The MCAI states that the forward cargo compartment between frames 21 through 25 forks is susceptible to WFD, and a structural modification is required to allow airplanes to continue operation up to the LOV.

In the NPRM, the FAA proposed to complete certain mandated programs to support the airplane reaching its LOV of the engineering data that support the established structural maintenance program, as specified in EASA AD 2022-0048. The NPRM also proposed to require modifying the forward cargo compartment between frames 21 through 25 forks, as specified in EASA AD 2022-0048. The FAA is issuing this AD to address this unsafe condition, which if not corrected, could result in reduced structural integrity of the airplane.

You may examine the MCAI in the AD docket at regulations.gov under Docket No. FAA-2022-0890.

Discussion of Final Airworthiness Directive

Comments

The FAA received a comment from the Air Line Pilots Association, International (ALPA), who supported the NPRM without change.

The FAA received an additional comment from FedEx. The following presents the FAA's response to that comment.

Request To Approve Equivalent Label

FedEx asked the FAA approve installing an equivalent label that contains the same information as the label identified in the service information required by EASA AD 2022-0048. FedEx stated that it is having difficulty procuring that label, having part number (P/N) ABS2127B01. FedEx noted that the label is to be installed on the aircraft to identify that the modification required by EASA AD 2022-0048 has been accomplished, and does not affect the other work performed.

The FAA agrees that installing an equivalent label (placard) which contains the same information as the label having P/N ABS2127B01 is acceptable. Therefore, the FAA has added paragraph (h)(1) of this AD, which allows the use of an equivalent label on the forward cargo compartment door. The FAA has redesignated subsequent paragraphs accordingly.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other change described previously, this AD is adopted as proposed in the NPRM. None of the changes will increase the economic burden on any operator.

Related Service Information Under 1 CFR Part 51

EASA AD 2022-0048 specifies procedures for modifying the forward cargo compartment between frames 21 through 25 forks. The modification includes reinforcing the fastener holes through cold working and replacing all the fasteners.

This material is reasonably available because the interested parties have access to it through their normal course of business or by the means identified in the ADDRESSES section.

Costs of Compliance

The FAA estimates that this AD affects 67 airplanes of U.S. registry. The FAA estimates the following costs to comply with this AD:

Estimated Costs for Required Actions
Labor cost | Parts cost | Cost per product | Cost on U.S. operators
36 work-hours × $85 per hour = $3,060 | $177 | $3,237 | $216,879

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-24-02 Airbus SAS: Amendment 39-22242; Docket No. FAA-2022-0890; Project Identifier MCAI-2022-00391-T.

(a) Effective Date

This airworthiness directive (AD) is effective January 9, 2023.

(b) Affected ADs

None.

(c) Applicability

This AD applies to Airbus SAS Model A300 F4-605R and F4-622R airplanes, certificated in any category, as identified in European Union Aviation Safety Agency (EASA) AD 2022-0048, dated March 18, 2022 (EASA AD 2022-0048).

(d) Subject

Air Transport Association (ATA) of America Code 52, Doors.

(e) Unsafe Condition

This AD was prompted by a determination that the forward cargo door compartment between frames 21 through 25 forks is susceptible to widespread fatigue damage (WFD). The FAA is issuing this AD to address this condition, which if not corrected, could result in reduced structural integrity of the airplane.

(f) Compliance

Comply with this AD within the compliance times specified, unless already done.

(g) Requirements

Except as specified in paragraph (h) of this AD: Comply with all required actions and compliance times specified in, and in accordance with, EASA AD 2022-0048.

(h) Exceptions to EASA AD 2022-0048

(1) Where the service information referenced in EASA AD 2022-0048 specifies installing a label (placard) having part number (P/N) ABS2127B01 on the forward cargo compartment door, this AD allows installing an equivalent label provided the label contains the same information as the label having P/N ABS2127B01.

(2) The “Remarks” section of EASA AD 2022-0048 does not apply to this AD.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(j) Additional Information

For more information about this AD, contact Dan Rodina, Aerospace Engineer, Large Aircraft Section, FAA, International Validation Branch, 2200 South 216th St., Des Moines, WA 98198; telephone 206-231-3225; email dan.rodina@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0048, dated March 18, 2022.

(ii) [Reserved]

(3) For EASA AD 2022-0048, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on November 9, 2022.
Christina Underwood,
Acting Director, Compliance & Airworthiness Division, Aircraft Certification Service.

[FR Doc. 2022-26355 Filed 12-2-22; 8:45 am]

BILLING CODE 4910-13-P